DEPARTMENT OF TRANSPORTATION

Federal Highway Administration

23 CFR Part 655

[FHWA Docket No. FHWA-2003-15149]

RIN 2125-AE98

National Standards for Traffic Control Devices; the Manual on Uniform Traffic Control Devices for Streets and Highways; Maintaining Traffic Sign Retroreflectivity

AGENCY: Federal Highway Administration (FHWA), DOT.

ACTION: Propsed rule; extension of comment period.

SUMMARY: The FHWA is extending the comment period for a notice of proposed amendments (NPA) to the Manual on Uniform Traffic Control Devices (MUTCD); request for comments on maintaining traffic sign retroreflectivity, which was published on July 30, 2004, at 69 FR 45623. The original comment period is set to close on October 28, 2004. The extension is based on concern expressed by the National Committee on Uniform Traffic Control Devices, (NCUTCD) and the American Association of State Highway and Transportation Officials (AASHTO) that the October 28 closing date does not provide sufficient time for discussion of the issues in committee and a subsequent comprehensive response to the docket. The FHWA recognizes that others interested in commenting may have similar time constraints and agrees that the comment period should be extended. Therefore, the closing date for comments is changed to February 1, 2005, which will provide the NCUTCD, the AASHTO, and others interested in commenting additional time to discuss, evaluate, and submit responses to the docket.

DATES: Submit comments on or before February 1, 2005.

ADDRESSES: Mail or hand deliver comments to the U.S. Department of Transportation, Dockets Management Facility, Room PL-401, 400 Seventh Street, SW., Washington, DC 20590, or submit electronically at http://dmses.dot.gov/submit or fax comments to (202) 493-2251. All comments should include the docket number that appears in the heading of this document. Alternatively, comments may be submitted via the Federal eRulemaking Portal at http://www.regulations.gov (follow the on-line instructions for submitted comments). All comments received will be available for examination and copying at the above address from 9 a.m. to 5 p.m., e.t., Monday through Friday, except Federal holidays. Those desiring notification of receipt of comments must include a self-addressed, stamped postcard or may print the acknowledgment page that appears after submitting comments electronically. Anyone is able to search the electronic form of all comments received into any of our dockets by the name of the individual submitting the comment (or signing the comment, if submitted on behalf of an association, business, labor union, etc.). Persons making comments may review DOT's complete Privacy Act Statement in the Federal Register published on April 11, 2000 (Volume 65, Number 70, Pages 19477-78) or may visit http://dms.dot.gov.

FOR FURTHER INFORMATION CONTACT: Mr. Peter J. Hatzi, Office of Safety Design (HSA-10), (202) 366-8036, or Raymond Cuprill, Office of the Chief Counsel (202) 366-0791, Federal Highway Administration, 400 Seventh Street, SW., Washington, DC 20590-0001. Office hours are from 7:45 a.m. to 4:15 p.m., e.t., Monday through Friday, except Federal holidays.

SUPPLEMENTARY INFORMATION:

Electronic Access and Filing

Interested parties may submit or retrieve comments online through the Document Management System (DMS) at: http://dmses.dot.gov/submit. Acceptable formats include: MS Word (versions 95 to 97), MS Word for Mac (versions 6 to 8), Rich Text File (RTF), American Standard Code Information Interchange (ASCII) (TXT), Portable Document Format (PDF), and WordPerfect (versions 7 to 8). The DMS is available 24 hours each day, 365 days each year. Electronic submission, retrieval help and guidelines are available under the help section of the website.

An electronic copy of this document may be downloaded using a computer, modem and suitable communications software from the Government Printing Office's Electronic Bulletin Board Service at (202) 512-1661. Internet users may reach the Office of the Federal Register's home page at http://www.archives.gov and the Government Printing Office's Web page at: http://www.access.gpo.gov/nara.

Background

The FHWA has conducted extensive research on the minimum levels of sign retroreflectivity. This research led to the development of proposed minimum maintained levels of traffic sign retroreflectivity, and a complement of maintenance methods for implementing the levels. On July 30, 2004, the FHWA published in the Federal Register a notice of proposed amendments (NPA) proposing changes to the MUTCD to include methods to maintain traffic sign retroreflectivity. The proposed maintenance methods would establish a basis for improving nighttime visibility of traffic signs to promote safety, enhance traffic operations, and facilitate comfort and convenience for all drivers.

The existing MUTCD requires that traffic signs be illuminated or retroreflective. However, until recently, little information was available about the levels of retroreflectivity necessary to meet the needs of drivers and thereby define the useful life of signs. The NPA for maintaining traffic sign retroreflectivity is proposing guidance for evaluating and maintaining traffic sign retroreflectivity to address the needs of drivers. The methods proposed would allow agencies options for evaluating and managing their signs.

The NPA proposes a seven-year compliance period for regulatory, warning, and post mounted guide signs and a 10-year compliance period for overhead guide signs and street name signs.

The original comment period for the NPA closes on October 28, 2004. The NCUTCD and the AASHTO have expressed concern that this closing date does not provide sufficient time to review and discuss the proposed changes; and then, develop and submit complete responses to the docket. To allow time for these organizations and others to submit comprehensive comments, the closing date is changed from October 28, 2004, to February 1, 2005.

Authority: 23 U.S.C. 101(a), 104, 105, 109(d), 114(a), 135, 217, 307, 315, and 402(a); sec. 406(a), Pub. L. 102-388, 106 Stat. 1520, 1564, 23 CFR 1.32 and 49 CFR 1.48(b).)

Issued on: October 18, 2004.
Mary E. Peters,
Federal Highway Administrator.

[FR Doc. 04-23674 Filed 10-21-04; 8:45 am]

BILLING CODE 4910-22-P